DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held December 2, 2009 from 8:30 a.m. to 1:30 p.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Program Management Committee meeting. The agenda will include:

• Opening Plenary (Welcome and Introductions).

• Review/Approve Summary of September 9, 2009 PMC meeting, RTCA Paper No. 217-09/PMC-753.

• Publication Consideration/Approval.

• Final Draft, Revised DO-293, Minimum Operational Performance Standards for Nickel-Cadmium, Nickel Metal-Hydride, and Lead Acid Batteries, RTCA Paper No. 238-09/PMC-760, prepared by SC-211.

• Final Draft, Revised DO-260A, Minimum Operational Performance Standards for 1090 MHz Extended Squitter Automatic Dependent Surveillance—Broadcast (ADS-B) and Traffic Information Services—Broadcast (TIS-B), RTCA Paper No. 228-09/PMC-756, prepared by SC-186.

• Final Draft, Revised DO-282A, Minimum Operational Performance Standards for Universal Access Transceiver (UAT) Automatic Dependent Surveillance—Broadcast, RTCA Paper No. 229-09/PMC-757, prepared by SC-186.

• Integration and Coordination Committee (ICC)—Report.

• Action Item Review.

• SC-218—Future ADS-B/TCAS Relationships—Discussion—Review Status.

• SC-203—Unmanned Aircraft Systems (UAS)—Discussion—Review Status.

• SC-214—Standards for Air Traffic Data Communications Services—Discussion—Review Status and Revised Terms of Reference.

• Discussion.

• SC-217—Terrain and Airport Databases—Co-Chairman Review/Approval.

• Special Committee—Chairmen's Reports.

• Closing Plenary (Other Business, Document Production, PMC Meeting Schedule Meeting, Adjourn).

Attendance is open to the interested public but limited to space availability. With the approval of the chairman, members of the public may present oral statements at the meeting. Persons wishing to present statements or obtain information should contact the person listed in the FOR FURTHER INFORMATION CONTACT section.

Members of the public may present a written statement to the committee at any time.

Issued in Washington, DC, on November 4, 2009.
Francisco Estrada C.,
RTCA Advisory Committee.

[FR Doc. E9-27125 Filed 11-9-09; 8:45 am]

BILLING CODE 4910-13-P